DEPARTMENT OF COMMERCE

National Oceanic and Atmospheric Administration

RIN 0648-XC504

New England Fishery Management Council; Public Meeting

AGENCY: National Marine Fisheries Service (NMFS), National Oceanic and Atmospheric Administration (NOAA), Commerce.

ACTION: Notice; public meeting.

SUMMARY: The New England Fishery Management Council's (Council) Groundfish Oversight Committee will meet jointly with its Groundfish Advisory Panel to consider actions affecting New England fisheries in the exclusive economic zone (EEZ).

DATES: The meeting will be held on Wednesday, March 6, 2013 at 9 a.m.

ADDRESSES: The meeting will be held at the Sheraton Colonial, One Audubon Road, Wakefield, MA 01880; telephone: (781) 245-9300; fax: (781) 245-0842.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Groundfish Committee will hold a joint meeting with the Groundfish Advisory Panel (GAP). The primary purpose of the meeting is to resume work on the development of Amendment 18 to the Northeast Multispecies Fishery Management Plan (A18). A18 is being developed with two broad objectives; (1) to consider the establishment of accumulation caps for the groundfish fishery and; (2) to consider issues associated with fleet diversity in the multispecies fishery. A Notice of Intent to prepare an environmental impact statement (EIS) for this amendment was filed published on December 21, 2011 (76 FR 79153). After completing a scoping period in early summer of 2012, progress on this amendment was delayed while the Council completed other management actions. At this meeting, the Committee and GAP will review scoping comments received, analyses developed by the Plan Development Team (PDT), and other comments. The Committee and GAP will develop a plan to move forward on this amendment. They may also receive an update on a Transboundary Management Guidance Committee (TMGC) meeting that will be held in February and may address other groundfish management priorities for FY 2013, including modifications to rebuilding plans. Other business may be discussed as necessary.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: February 12, 2013.
Tracey L. Thompson,
Acting Deputy Director, Office of Sustainable Fisheries, National Marine Fisheries Service.

[FR Doc. 2013-03666 Filed 2-15-13; 8:45 am]

BILLING CODE 3510-22-P